DEPARTMENT OF THE INTERIOR

National Park Service

[NPS-NER-DEWA-21468; PX.DDEWA0009.00.1]

Boundary Adjustment at Delaware Water Gap National Recreation Area

AGENCY: National Park Service, Interior.

ACTION: Notification of Boundary Adjustment.

SUMMARY: The boundary of Delaware Water Gap National Recreation Area is adjusted to include two parcels of land totaling 27.85 acres, more or less. Fee simple interest in the land will be donated to the United States. The properties are located in Delaware Township, Pike County, and Smithfield Township, Monroe County, Pennsylvania, adjacent to the current boundary of Delaware Water Gap National Recreation Area.

DATES: The effective date of this boundary adjustment is September 12, 2016.

ADDRESSES: The map depicting this boundary adjustment is available for inspection at the following locations: National Park Service, Land Resources Program Center, Northeast Region, 200 Chestnut Street, Philadelphia, PA 19106, and National Park Service, Department of the Interior, 1849 C Street NW., Washington, DC 20240.

FOR FURTHER INFORMATION CONTACT: Superintendent John J. Donahue, Delaware Water Gap National Recreation Area, 1978 River Road (Off US209), Bushkill, PA 18324, telephone (570) 426-2418.

SUPPLEMENTARY INFORMATION: Notice is hereby given that, pursuant to 16 U.S.C. 460o-2(b), the boundary of Delaware Water Gap National Recreation Area is adjusted to include 27.82 acres of land, more or less, comprised of two parcels of land: 22.85 acres (Section 163.00, Block 01, Lot 23) in Delaware Township, Pike County, Pennsylvania; and 5 acres (Tax Parcel 16/1/1/57) in Smithfield Township, Monroe County, Pennsylvania. This boundary adjustment is depicted on Map No. 620/132,481 dated April 27, 2016.

16 U.S.C. 460o-2(b) states that the Secretary of the Interior may make adjustments in the boundary of Delaware Water Gap National Recreation Area by publication of the amended description thereof in the Federal Register: Provided, that the area encompassed by such adjusted boundary shall not exceed the acreage included within the detailed boundary first described in the Federal Register on June 7, 1977 (Vol. 42, No. 109, pp 29071-29103). This boundary adjustment does not exceed the acreage of the detailed boundary so described. The Conservation Fund will donate its fee interest in the land to the United States, as part of an agreement to help mitigate the effects of the upgrade and expansion of the existing Susquehanna-Roseland electric transmission line across approximately 4.3 miles of the national recreation area.

Dated: July 12, 2016.
Jonathan Meade,
Deputy Regional Director, Northeast Region.

[FR Doc. 2016-21792 Filed 9-9-16; 8:45 am]

BILLING CODE 4310-WV-P